DEPARTMENT OF VETERANS AFFAIRS

Advisory Committee on Women Veterans; Notice of Meeting

The Department of Veterans Affairs (VA) gives notice under the Federal Advisory Committee Act that the Advisory Committee on Women Veterans (Committee) will conduct a site visit on April 1-5, 2019, in North Carolina/VISN 6: VA Mid-Atlantic Health Care Network. Sessions are open to the public, except when the Committee is conducting tours of VA facilities, and participating in off-site events. Tours of VA facilities are closed to protect Veterans' privacy and personal information, in accordance with 5 U.S.C. Sec. 552b(c)(6). The site visit will also include a town hall meeting for women Veterans and those who provide services to women Veterans.

The purpose of the Committee is to advise the Secretary of Veterans Affairs regarding the needs of women Veterans with respect to health care, rehabilitation, compensation, outreach, and other programs and activities administered by VA designed to meet such needs. The Committee makes recommendations to the Secretary regarding such programs and activities.

On Monday, April 1, the Committee will convene an open session at the Durham VA Health Care System (508 Fulton Street, Durham, NC 27705), from 8:30 a.m. to 2:30 p.m. The agenda will include overview briefings from the VISN 6 leadership, Durham VA Health Care System leadership on the facilities, programs, demographics, women Veterans programs, and other services available for Veterans. In the afternoon, the Committee will reconvene a closed meeting from 2:30 p.m. to 4 p.m., as it tours the Durham VA Health Care System. Tours of VA facilities are closed to protect Veterans' privacy and personal information, in accordance with 5 U.S.C. Sec. 552b(c)(6).

In the morning of Tuesday, April 2, the Committee will convene an open session at the Fayetteville VA Health Care Center (7300 South Raeford Road, Fayetteville, NC 28304), from 9:00 a.m. to 2:00 p.m. The agenda will include overview briefings from Fayetteville VA Medical Center/Fayetteville VA Health Care Center leadership on the facilities, programs, demographics, women Veterans programs, and other services available. In the afternoon, the Committee will reconvene a closed session from 2 p.m. to 4 p.m., as it tours the Fayetteville VA Health Care Center. Tours of VA facilities are closed to protect Veterans' privacy and personal information, in accordance with 5 U.S.C. Sec. 552b(c)(6). From 4:00 p.m. to 5:00 p.m., the Committee will observe a women Veterans town hall meeting at the Fayetteville VA Health Care Center; this session is open to the public.

In the morning of Wednesday, April 3, the Committee will convene a closed session, from 9:00 a.m. to Noon, as it tours the women's clinic at the W. G. (Bill) Hefner VA Medical Center (1601 Brenner Avenue, Salisbury, NC 28144). In the afternoon of Wednesday, April 3, the Committee will convene a closed session, from 2 p.m. to 4 p.m., as it tours and the Salisbury National Cemetery (501 Statesville Boulevard, Salisbury, NC 28144). Tours of VA facilities are closed to protect Veterans' privacy and personal information, in accordance with 5 U.S.C. Sec. 552b(c)(6).

In the morning of Thursday, April 4, the Committee will convene an open meeting at the Kernersville Health Care Center (1695 Kernersville Medical Parkway, Kernersville, NC 27284), from 9 a.m. to 2 p.m. The agenda will include overview briefings on programs and other services available for Veterans at the Kernersville Health Care Center, as well as overview briefings from the Winston-Salem Regional Office. In the afternoon, the Committee will reconvene a closed meeting from 2:00 p.m. to 4:00 p.m., as it tours the Kernersville Health Care Center. Tours of VA facilities are closed to protect Veterans' privacy and personal information, in accordance with 5 U.S.C. Sec. 552b(c)(6).

In the morning of Friday, April 5, the Committee will convene an open session at the Durham VA Health Care System (508 Fulton Street, Durham, NC 27705), from 9 a.m. to 10 a.m., as it conducts an out-briefing with leadership from the Salisbury National Cemetery/Salisbury VA Medical Center/Fayetteville VA Medical Center/Durham VA Health Care System/Kernersville Health Care Center/Winston-Salem Regional Office.

With the exception of the town hall meeting, there will be no time for public comment during the meeting. Members of the public may submit written statements for the Committee's review to 00W@mail.va.gov, or by fax at (202) 273-7092. Any member of the public and media planning to attend or seeking additional information should notify Shannon L. Middleton at (202) 461-6193, or 00W@mail.va.gov.

Dated: March 8, 2019.
Jelessa M. Burney,
Federal Advisory Committee Management Officer.

[FR Doc. 2019-04597 Filed 3-12-19; 8:45 am]

BILLING CODE P